DEPARTMENT OF THE INTERIOR

National Park Service

Golden Gate National Recreation Area and Point Reyes National Seashore Advisory Commission; Notice of Meetings for Calendar Year 2002

Notice is hereby given in accordance with the Federal Advisory Committee Act that meetings of the Golden Gate National Recreation Area and Point Reyes National Seashore Advisory Commission will be held monthly for calendar year 2002 to hear presentations on issues related to management of the Golden Gate National Recreation Area and Point Reyes National Seashore. Meetings of the Advisory Commission are scheduled for the following dates at San Francisco and at Point Reyes Station, California:

Tuesday, January 22—San Francisco, CA

Saturday, February 2—Point Reyes, CA

Tuesday, February 26—San Francisco, CA

Tuesday, March 26—San Francisco, CA

Tuesday, April 23—San Francisco, CA

Saturday, May 4—Point Reyes, CA

Tuesday, May 28—San Francisco, CA

Tuesday, June 25—San Francisco, CA

Tuesday, July 23—San Francisco, CA

Tuesday, August 27—San Francisco, CA

Tuesday, September 24—San Francisco, CA

Saturday, October 19—Point Reyes, CA

Tuesday, October 22—San Francisco, CA

Tuesday, November 26—San Francisco, CA

The Advisory Commission was established by Public Law 92-589 to provide for the free exchange of ideas between the National Park Service and the public and to facilitate the solicitation of advice or other counsel from members of the public on problems pertinent to the National Park Service areas in Marin, San Francisco and San Mateo Counties. Current members of the Commission are as follows:

Mr. Richard Bartke, Chairman

Ms. Amy Meyer, Vice Chair

Ms. Lennie Roberts

Dr. Edgar Wayburn

Mr. Michael Alexander

Mr. Gordon Bennett

Ms. Anna-Marie Booth

Ms. Yvonne Lee

Ms. Susan Giacomini Allan

Mr. Trent Orr

Mr. Redmond Kernan

Mr. Doug Nadeau

Ms. Betsey Cutler

Mr. Trent Orr

Mr. Dennis Rodoni

Mr. John J. Spring

Mr. Fred Rodriguez

Mr. Paul Jones

All meetings of the Advisory Commission will be held at 7:30 p.m. at GGNRA Park Headquarters, Building 201, Fort Mason, Bay and Franklin Streets, San Francisco, except the Saturday, February 2, Saturday, May 4 and Saturday, October 19 meetings, which will be held at 10:30 a.m. at the Dance Palace, corner of 5th and B Streets, Point Reyes Station, California. However, some meetings may be held at other locations in Marin County or at locations in San Mateo County. Information confirming the time and location of all Advisory Commission meetings or cancellations of any meetings can be received by calling the Office of the Staff Assistant at (415) 561-4733.

Anticipated possible agenda items at meetings during calendar year 2002 may include:

• Updates on Advanced Notice of Proposed Rulemaking (ANPR)

• Updates on Planning Issues for Fort Baker

• Doyle Drive Scoping Overview and Public Comment

• Updates on Presidio Vegetation Management Plan

• Updates on Marin Comprehensive Transportation Planning

• Reports on Park Site Ferry Planning

• Updates on Park 5-Year Strategic Plan

• Update reports on Golden Gate Bridge Seismic Upgrade Project and Park Impacts

• Update reports on Crissy Field Education Center

• Reports on GGNRA education programs

• Update on Plans for Crissy Field projects

• Reports and updates on the Cliff House Restoration Plan and other elements of the Sutro Design Plan, including the Merrie Way Visitor Center

• Update Reports on Fort Mason Center Pier One and Pier 2 Seismic Work

• Reports on park equestrian permits

• GGNPA annual briefing

• Redwood Creek Watershed Planning

• Reports on Alcatraz Historic Preservation and Safety Construction

• Update on park expansion legislation

• Update on transfer of properties in GGNRA boundary to NPS

• Issues affecting San Mateo County national park lands

• Update on Caltrans Highway 92 and Devils Slide tunnel projects

• Update reports on “Park Partner” programs, including Bay Area Discovery Museum plans, Marine Mammal Center planning, and Slide Ranch site improvements

• Updates on Fort Mason Reuse projects and Upper Fort Mason planning

• Updates on Presidio Trails Master Plan and Presidio Mountain Lake projects

• Updates on issues concerning areas managed by the Presidio Trust, and

• Updates on issues concerning management and planning at Point Reyes NS, including Point Reyes NS General Management Plan updates.

These meetings will also contain Superintendent's Report and a Presidio Trust Director's Report.

Specific final agendas for these meetings will be made available to the public at least 15 days prior to each meeting and can be received by contacting the Office of the Staff Assistant, Golden Gate National Recreation Area, Building 201, Fort Mason, San Francisco, California 94123 or by calling (415) 561-4733. They are also noticed on the Golden Gate National Recreation Area Web site nps.gov/goga under the section “Advisory Commission”.

These meetings are open to the public. They will be recorded for documentation and transcribed for dissemination. Minutes of the meetings will be available to the public after approval of the full Advisory Commission. Sign language interpreters are available by request at least one week prior to a meeting. The TDD phone number for these requests is (415) 556-2766. A verbatim transcript will be available three weeks after each meeting. For copies of the minutes contact the Office of the Staff Assistant, Golden Gate National Recreation Area, Building 201, Fort Mason, San Francisco, California 94123.

Dated: December 13. 2001.
Mary Gibson Scott,
Acting General Superintendent, Golden Gate National Recreation Area.

[FR Doc. 02-865 Filed 1-11-02; 8:45 am]

BILLING CODE 4310-70-P